DEPARTMENT OF LABOR

Employment and Training Administration

[TA-W-56,965]

FMC Corporation, Phosphate Plant; Green River, WY; Notice of Termination of Investigation

Pursuant to Section 221 of the Trade Act of 1974, as amended, an investigation was initiated on April 14, 2005 in response to a worker petition filed by the State of Wyoming Department of Workforce Services on behalf of workers at the Phosphate plant of FMC Corporation, Green River, Wyoming.

All workers of the Phosphate plant were separated from the subject firm more than one year before the date of the petition. Section 223(b) of the Act specifies that no certification may apply to any worker whose last separation occurred more than one year before the date of the petition. Consequently, further investigation in this case would serve no purpose, and the investigation has been terminated.

Signed at Washington, DC, this 25th day of April, 2005.
Elliott S. Kushner,
Certifying Officer, Division of Trade Adjustment Assistance.

[FR Doc. E5-2432 Filed 5-13-05; 8:45 am]

BILLING CODE 4510-30-P